DEPARTMENT OF JUSTICE

Drug Enforcement Administration

Manufacturer of Controlled Substances; Notice of Application

Pursuant to section 1301.33(a) of title 21 of the Code of Federal Regulations (CFR), this is notice that on March 31, 2000, and by letter dated April 14, 2000, Wildlife Laboratories, Inc., 1401 Duff Drive, Suite 600, Ft. Collins, Colorado 80524, made application to the Drug Enforcement Administration (DEA) for registration as a bulk manufacturer of carfentanil (9743), a basic class of controlled substance listed in Schedule II.

The firm plans to manufacturer the listed controlled substance for distribution to its customers.

Any other such applicant and any person who is presently registered with DEA to manufacturer such substance may file comments or objections to the issuance of the proposed registration.

Any such comments or objections may be addressed, in quintuplicate, to the Deputy Assistant Administrator, Office of Diversion Control, Drug Enforcement Administration, United States Department of Justice, Washington, D.C. 20537, Attention: DEA Federal Register Representative (CCR), and must be filed no later than August 21, 2000.

Dated: June 7, 2000.
John H. King,
Deputy Assistant Administrator, Office of Diversion Control, Drug Enforcement Administration.

[FR Doc. 00-15689 Filed 6-21-00; 8:45 am]

BILLING CODE 4410-09-M